DEPARTMENT OF TRANSPORTATION

Federal Motor Carrier Safety Administration

[Docket No. FMCSA-2018-0278]

Agency Information Collection Activities; Approval of a New Information Collection Request: Crime Prevention for Truckers

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. This request, titled “Crime Prevention for Truckers,” will allow for a study to understand the prevalence, seriousness, and nature of the problem of harassment and assaults against minority and female truckers.

DATES: Please send your comments by March 30, 2020. OMB must receive your comments by this date in order to act quickly on the ICR.

ADDRESSES: All comments should reference Federal Docket Management System (FDMS) Docket Number FMCSA-2018-0278. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Chris Flanigan, General Engineer, Technology Division, Department of Transportation, Federal Motor Carrier Safety Administration, 6th Floor, West Building, 1200 New Jersey Avenue SE, Washington, DC 20590-0001. Telephone: 202-385-2384; Email Address: chris.flanigan@dot.gov. Office hours are from 9 a.m. to 5 p.m., Monday through Friday, except Federal Holidays.

SUPPLEMENTARY INFORMATION:

Title: Crime Prevention for Truckers.

OMB Control Number: 2126-00XX.

Type of Request: New information collection.

Respondents: Female and minority male commercial motor vehicle drivers.

Estimated Number of Respondents: Maximum of 880 truck drivers [80 respondents reporting no incidents of harassment or crime + 800 respondents reporting one or more incidents of harassment or crime].

Estimated Time per Response: Varies. [8 minutes for respondents not reporting incidents of harassment or crime; 20 minutes for respondents reporting an incident of harassment or crime].

Expiration Date: This is a new information collection.

Frequency of Response: Once.

Estimated Total Annual Burden: 277.3 hours [80 respondents reporting no incidents × (8 minutes ÷ 60 minutes per hour) + 800 respondents reporting one or more incidents × (20 minutes ÷ 60 minutes per hour)].

Background: FMCSA has accumulated evidence, both documentary and anecdotal, for a serious pattern of harassment- and assault-related crimes against female and minority male truckers. For example, Security Journal, in a 2006 article titled “Workplace Violence against Female Long-haul Truckers,” reported that 42 percent of female longhaul truckers reported experiencing one or more types of workplace violence. USA Today, in a 2017 article titled “Rigged,” gave accounts of repeated harassment of minority male truckers. Currently, FMCSA does not provide materials or training to truckers, including minority and female truckers, on how to protect themselves from being stalked, harassed, assaulted, or robbed. Before effective solutions for preventing or reducing these crimes against female and minority truckers can be developed and implemented, FMCSA must understand the prevalence, seriousness, and nature of the problem of harassment and assaults against truckers. Currently, there is insufficient data. The frequency and number of harassment- and assault-related crimes occurring, the portion that are unreported, and reasons for underreporting are unknown.

The purpose of this research study is to gather information to answer these questions, to understand how serious the problem is, and to report it to FMCSA so the Agency can decide on further options for evaluation and action. FMCSA needs to explore and validate the problem of harassment- and assault-related crimes, especially against female and minority male truckers for two reasons. First, there seems to be a perception among these subpopulations of truckers that they are more vulnerable than others. Second, there is a critical shortage of truckers, and helping these subpopulations of truckers protect themselves from crimes could draw more truckers from these subpopulations, while stemming turnover, to alleviate the shortage.

FMCSA has contracted with Battelle to create and execute a survey of truck drivers to gather this information. This exploratory survey will be limited in scale and scope. Quantitative and qualitative analysis of the data will help the Agency to understand the nature and extent of the problem and begin to formulate an approach to reducing it. The results will not be used for rulemaking.

The survey of professional truck drivers will be limited to female and minority male drivers. The survey will ask whether the drivers have experienced race- or gender-related harassment or crimes on the job. If the driver has had such an experience, the survey will ask follow-up questions on where and when the incidents occurred, any information the respondent knows about the perpetrator, and whether the respondent reported the incident. The survey will be anonymous. None of the questions ask for information that could personally identify the respondent or any perpetrators involved. Some respondents will take the survey online, and others will take it in the form of an in-person interview. Identical questions will be asked of all drivers, but answers from males and females will be analyzed separately.

A maximum of 440 males and 440 females will be included in the information collection. The information will be collected through a combination of an online survey and in-person interviews. Approximately 160 in person interviews will be completed, 80 females and 80 minority males. The balance will take the survey electronically. Some individuals may be eligible to participate in the survey but will not have had any recent experience of harassment or assault. These individuals will be included in the final results for calculation of prevalence. The total number of respondents targeted for those who experienced some sort of harassment or assault will be 400 in each group. If 400 targeted individuals are reached before the overall cap of 440 respondents, data collection will be stopped for that group. Individuals who are screened but are not female or minority male, or with other criteria such as not being active drivers, will not be included in the interview counts, though a tabulation of the number of such contacts and reason for their disqualification will be reported to better understand resource needs and burden in future data collection efforts of this type. A $25 incentive will be given to eligible respondents to the in-person interview or the online survey. For respondents to be eligible and to receive the incentive, they must report that they are a female or a minority male who has driven a truck professionally in the past 2 years and complete the survey—at least through the initial questions of what events, if any, they have experienced.

Battelle statisticians experienced in surveys and in analyzing data for FMCSA will execute the data analysis plan. Findings will be presented in a report that will be made available on the Agency's website so that interested stakeholders and the general public will be aware of the findings. Battelle is required to deliver a public-use dataset at the conclusion of the project. By understanding the nature and prevalence of crimes against truckers, FMCSA will be able to formulate and promote programs to address the problem. The report may be useful to law enforcement personnel, motor carriers, truck drivers, operators of private truck stops, and others interested in addressing the situation.

If study findings indicate a significant problem that merits action, FMCSA may consider developing training or outreach materials to help truckers protect themselves from crime or harassment. Such training or outreach materials could help foster motor carriers' employee retention efforts and help make the truck driving profession more attractive to a greater range of people.

Public comments on this were requested in the Federal Register in a July 23, 2019 notice (Docket No. FMCSA-2018-0278). Three comments were received and are summarized below.

Ellen Voie, President, Women In Trucking (WIT) Association, appreciates the initiative to better understand the challenges female and minority drivers face. WIT conducted research on best practices in hiring and retaining female professional drivers. The respondents indicated their level of safety at 4.4 on a scale of one to ten. She states that this is unacceptable and that once the survey has been completed and we can better understand the extent of crimes against female (and minority) drivers, we can better address how to eliminate any harassment and assaults directed against them. Overall, this information will assist WIT in their efforts to attract and retain more women in trucking.

Desiree Wood, President, Real Women in Trucking, Inc. (RWIT), has been receiving distress calls related to sexual misconduct related to entry-level driver training fleets for over 10 years. RWIT is a truck driver organization formed by working female truck drivers, many of whom have had firsthand experience with sexual misconduct at a trucking company, including Ms. Wood. This led to her forming RWIT, which aims to assist women who have been raped, assaulted, harassed, and abandoned by their employing carrier by referring them to law firms and the EEOC. Ms. Wood recommends that FMCSA take immediate action to address these issues instead of conducting the survey.

Bunny Sterling, East Calais, Vermont, described several types of harassment against women working in the trucking industry, but did not claim specifically that they happened to her. They included lude comments and gestures, unwanted physical advances and phone calls, and threats of losing employment if retaliation occurred.

FMCSA appreciates the comments and support for examining this issue and plans to proceed with the data call to assess in more detail the extent of this problem. This could lead to the agency reaching out to driver training schools to encourage that they address these issues in their courses.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87 on: February 19, 2020.
Kenneth Riddle,
Acting, Associate Administrator for Office of Research and Information Technology.

[FR Doc. 2020-04100 Filed 2-27-20; 8:45 am]

BILLING CODE 4910-EX-P